DEPARTMENT OF JUSTICE

Antitrust Division

Notice Pursuant to the National Cooperative Research and Production Act of 1993—Multi-Terabyte Tape Storage

Notice is hereby given that, on October 29, 2002, pursuant to section 6(a) of the National Cooperative Research and Production Act of 1993, 15 U.S.C. 4301 et seq. (“the Act”), Multi-Terabyte Tape Storage has filed written notifications simultaneously with the Attorney General and the Federal Trade Commission disclosing (1) the identities of the parties and (2) the nature and objectives of the venture. The notifications were filed for the purpose of invoking the Act's provisions limiting the recovery of antitrust plaintiffs to actual damages under specified circumstances. Pursuant to section 6(b) of the Act, the identities of the parties are Accutronics Inc., Littleton, CO; Advanced Research Corporation, Minneapolis, MN; Imation Corp., Oakdale, MN; Peregrine Recording Technology Inc., Woodbury, MN; and Read-Rite Corporation, Fremont, CA. The nature and objectives of the venture are to develop the technologies to increase the data density of existing magnetic tape data systems by a factor of 250 and lay the foundation for even greater densities in future systems, leading to cost reductions in data archiving and improving the competitive position of the U.S. data storage industry.

Constance K. Robinson,
Director of Operation, Antitrust Division.

[FR Doc. 02-30790 Filed 12-4-02; 8:45 am]

BILLING CODE 4410-11-M